DEPARTMENT OF COMMERCE

Census Bureau

Proposed Information Collection; Comment Request; 2017-2019 Company Organization Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before June 16, 2017.

ADDRESSES: Direct all written comments to Jennifer Jessup, Departmental Paperwork Clearance Officer, Department of Commerce, Room 6616, 14th and Constitution Avenue NW., Washington, DC 20230 (or via the Internet at PRAcomments@doc.gov).

FOR FURTHER INFORMATION CONTACT: Requests for additional information or copies of the information collection instrument(s) and instructions should be directed to Carrie Hill, Economic Statistical Methods Division, U.S. Census Bureau, Room 5H069, Washington, DC 20233-6100 (or by email at Carrie.Anne.Hill@census.gov)

SUPPLEMENTARY INFORMATION:

I. Abstract

The Census Bureau conducts the annual Company Organization Survey (COS) to update and maintain a central, multipurpose Business Register (BR) database. In particular, the COS supplies critical information on the composition, organizational structure, and operating characteristics of multi-location companies.

The BR serves two fundamental purposes:

—First and most important, it provides sampling populations and enumeration lists for the Census Bureau's economic surveys and censuses, and it serves as an integral part of the statistical foundation underlying those programs. Essential for this purpose is the BR's ability to identify all known United States business establishments and their parent companies. Further, the BR must accurately record basic business attributes needed to control sampling and enumeration. These attributes include industrial and geographic classifications, and name and address information.

—Second, it provides establishment data that serve as the basis for the annual County Business Patterns (CBP) statistical series. The CBP publications present data on number of establishments, first quarter payroll, annual payroll, and mid-March employment summarized by industry and employment size class for the United States, the District of Columbia, island areas, counties, and country-equivalents. No other annual or more frequent series of industry statistics provides comparable detail, particularly for small geographic areas.

II. Method of Collection

The 2017-2019 COS collection strategy will focus on electronic reporting as the standard collection option. The Census Bureau will conduct the 2017 COS in conjunction with the 2017 Economic Census and will coordinate these collections to minimize response burden. The consolidated COS/census mail canvass will direct inquiries to the entire universe of multi-location enterprises that comprises roughly 164,000 parent companies and more than 1.6 million establishments. Additional COS inquiries will apply to the 15,000 multi-unit establishments classified in industries that are out-of-scope of the economic census.

The 2018-2019 COS will request company-level information from a selection of multi-establishment enterprises, which comprise roughly 42,000 parent companies and more than 1.4 million establishments. Additionally, the panel will include approximately 5,000 large single-location companies that may have added locations during the year.

Electronic reporting will be available to all 2017-2019 COS respondents. Companies will receive and return responses by secure Internet transmission. The instrument will include inquiries on ownership or control by domestic or foreign parent, ownership of foreign affiliates, leased employment and cooperative organization. Further, the instrument will list an inventory of establishments belonging to the company and its subsidiaries, and request updates to these inventories, including additions, deletions and changes to information on EIN, name and address, industrial classification, end-of-year operating status, mid-March employment, first quarter payroll and annual payroll. Beginning with the 2017 collection, a new question regarding cooperative organization status will be included in the instrument but respondents will no longer receive inquiries pertaining to the Enterprise Statistics Program as the program has been suspended.

III. Data

OMB Control Number: 0607-0444.

Form Number(s): NC-99001 (for multi-establishment enterprises during 2017-2019) and NC-99007 (for single-location companies during 2018-2019).

Type of Review: Regular submission.

Affected Public: Businesses and not-for-profit institutions.

Estimated Number of Respondents: 164,000 for 2017 and 47,000 per year for 2018-2019.

Estimated Time per Response: 0.44 hours for 2017 and 3.4 hours for 2018-2019.

Estimated Total Annual Burden Hours: 72,160 hours for 2017 and

159,800 hours for 2018-2019.

Estimated Total Annual Cost to Public: $0.

Respondent's Obligation: Mandatory.

Legal Authority: Title 13 U.S.C. Sections 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
PRA Departmental Lead, Office of the Chief Information Officer.

[FR Doc. 2017-07624 Filed 4-14-17; 8:45 am]

BILLING CODE 3510-07-P